COMMISSION ON CIVIL RIGHTS

Notice of Public Meetings of the Maine Advisory Committee to the U.S. Commission on Civil Rights

AGENCY: Commission on Civil Rights.

ACTION: Notice of public meetings.

SUMMARY: Notice is hereby given, pursuant to the provisions of the rules and regulations of the U.S. Commission on Civil Rights (Commission) and the Federal Advisory Committee Act, that the Maine Advisory Committee (Committee) to the U.S. Commission on Civil Rights will hold virtual monthly meetings on the following Thursdays at 12:00 p.m. ET: February 8, 2024, to review a draft addendum to the committee's report in Indigent Legal Services in Maine, and Thursday, March 14, 2024, to vote on the aforementioned addendum.

DATES: Thursday, February 8, 2024, and March 14, 2024; both convening at 12:00 p.m. (ET)

ADDRESSES: The meetings will be held via Zoom.

Zoom Link (Audio/Visual): https://tinyurl.com/5yr4dspy; password: USCCR-ME

Join by Phone (Audio Only): 1-833-435-1820 USA toll-free; Meeting ID: 161 655 9331#

FOR FURTHER INFORMATION CONTACT: Mallory Trachtenberg, Designated Federal Officer at mtrachtenberg@usccr.gov or via phone at 202-809-9618.

SUPPLEMENTARY INFORMATION: These committee meetings are available to the public through the registration link above. Any interested member of the public may listen to the meetings. An open comment period will be provided to allow members of the public to make a statement as time allows. Per the Federal Advisory Committee Act, public minutes of meetings will include a list of persons who are present at meetings. If joining via phone, callers can expect to incur regular charges for calls they initiate over wireless lines, according to their wireless plan. The Commission will not refund any incurred charges. Callers will incur no charge for calls they initiate over land-line connections to the toll-free telephone number. Closed captioning will be available. To request additional accommodations, please email ebohor@usccr.gov at least 10 business days prior to the meeting.

Members of the public are entitled to submit written comments; the comments must be received in the regional office within 30 days following the meeting. Written comments may be emailed to Mallory Trachtenberg at mtrachtenberg@usccr.gov. Persons who desire additional information may contact the Regional Programs Coordination Unit at 1-312-353-8311.

Records generated from these meetings may be inspected and reproduced at the Regional Programs Coordination Unit Office, as they become available, both before and after the meeting. Records of the meetings will be available via www.facadatabase.gov under the Commission on Civil Rights, Maine Advisory Committee link. Persons interested in the work of this Committee are directed to the Commission's website, http://www.usccr.gov, or may contact the Regional Programs Coordination Unit at ebohor@usccr.gov.

Agenda

I. Welcome & Roll Call

II. February 8: Review draft addendum on the Committee's report on Indigent Legal Services in Maine/March 14: Vote on aforementioned addendum

III. Public Comment

IV. Next Steps

V. Adjournment

Dated: January 12, 2024.
David Mussatt,
Supervisory Chief, Regional Programs Unit.

[FR Doc. 2024-00901 Filed 1-17-24; 8:45 am]

BILLING CODE P